DEPARTMENT OF ENERGY

Office of Energy Efficiency and Renewable Energy

SunShot Catalyst Program

AGENCY: Office of Energy Efficiency and Renewable Energy, Department of Energy.

ACTION: Notice; Release of competition rules and processes to compete.

SUMMARY: The Department of Energy (DOE) gives notice of the availability of the SunShot Catalyst Program prize competition rules. The Program is a series of prize-based contests designed to incentivize the public to address time-sensitive market problems in solar. The Program consists of four steps (Ideation, Business Innovation, Prototyping, and Incubation) with value awarded to all winning contestants totaling $1,000,000, which includes approximately $500,000 in cash prizes.

DATES: Submission to the Ideation step began May 21, 2014, and must be received electronically by June 20, 2014. Submission to the Business Innovation step begins July 24, 2014, and must be received electronically by August 13, 2014. All dates are subject to change. Other important dates are provided online at catalyst.energy.gov.

ADDRESSES: Interested persons can find full details about the competition rules and register to participate online at catalyst.energy.gov. Questions about the prize competition can be sent to:

• Email: sunshot.catalyst@ee.doe.gov.

• Mail: Mr. Victor Kane, U.S. Department of Energy, Mailstop EE-4S, 1000 Independence Avenue, Washington, DC 20585.

FOR FURTHER INFORMATION CONTACT: Questions may be directed to Mr. Victor Kane at (202) 287-1862 or by email at: sunshot.catalyst@ee.doe.gov.

SUPPLEMENTARY INFORMATION: The America COMPETES Reauthorization Act of 2010 (America COMPETES), Public Law 111-358, enacted January 4, 2011, authorizes Federal agencies to issue competitions to stimulate innovations in technology, education, and science. The SunShot Catalyst Program consists of four steps with value awarded to all winning contestants totaling $1,000,000, which includes approximately $500,000 in cash prizes. The following is only a summary of each step. For more information please review the full details online at catalyst.energy.gov. Contest rules are subject to change.

Eligibility: The Contest is open only to: (a) Citizens or permanent residents of the United States; and (b) private entities, such as corporations or other organizations that are incorporated in and maintain a primary place of business in the United States. Individuals submitting on behalf of corporations, nonprofits, or groups of individuals (such as an academic class or other team) must meet the eligibility requirements for individual participants. An individual may join more than one team, corporation, or nonprofit organization. DOE employees, employees of sponsoring organizations, and members of their immediate family (spouses, children, siblings, parents), and persons living in the same household as such persons, whether or not related, are not eligible to participate in any portion of the SunShot Catalyst Program. Federal entities and Federal employees, acting within the scope of their employment, are also not eligible to participate in any portion of the SunShot Catalyst Program.

Step 1: The Ideation Contest focuses on generating and aggregating pressing U.S. solar market needs and problem statements that can be solved through automation, algorithms, data, and software, especially by leveraging available data assets, tools, capabilities and resources. Anyone can participate in this contest by submitting problem statements online or by voting on existing submissions of problem statements during the active voting period. There will be five monetary prizes of $1,000 each, based on the results of a subsequent Incubation Contest (Step 4). A contestant with a problem statement, in the Ideation Contest, may win $1,000 in cash prizes, when a team, who adopted this referenced problem statement in their business solution, has been selected among top five winners in the Incubation Contest.

Submission Period Began: Wednesday May 21, 2014 at 11:59 a.m. ET. Submission Period Ends: Friday June 20, 2014 at 11:59 p.m. ET.

Step 2: The Business Innovation Contest is designed to help teams form and explore business solutions to the most compelling problems in increasing solar energy generation, especially problems and challenges expressed by the public during Step 1, the Ideation Contest. Anyone can participate in this Contest by submitting a business plan package online featuring a five minute video describing the proposed business plan. Winners of Step 2 will be given the opportunity to participate in the next contest, Prototyping (Step 3). DOE will grant access to $25,000 worth of online software development capabilities for every winner of Step 2. Winners will be selected based on the degree to which their business plan addresses a time-sensitive market problem in the solar industry. Up to 20 winners will be given the opportunity to work directly with a crowd-centric performance-based software development platform (PSDP) for 60 days to develop the product proposed in their business plan and complete minimum viable products (MVPs). Submission Period Begins: Thursday July 24, 2014 at 11:59 a.m. ET. Submission Period Ends: Wednesday August 13, 2014 at 11:59 p.m. ET.

Step 3: The Prototyping stage is designed to help the selected winners from the Business Innovation Contest (Step 2) rapidly complete the development of minimum viable products (MVPs) using a crowd-centric, performance-based software development platform. DOE will match winners of stage 2 with a DOE provided software developer. The software developer will work with the winners to provide the technology solutions to support their business plan.

Step 4: The Incubation Contest is designed to help teams with minimum viable products (MVPs) completed during a prior Step 3 (Prototyping) start their businesses and accelerate offering new products and services in the solar marketplace. To win cash awards, teams have to participate in a publically held event, Demonstration (Demo) Day, managed by DOE to showcase their MVPs, market entry execution strategy, and a 6-month growth plan. During Demo Day, Teams will be evaluated by judges selected in accordance with America COMPETES. The top five winners may receive a maximum total of $100,000 in cash prizes, per winning team. Funds will be distributed in two tranches as a seed round and a progress round. The first tranche seed round of $30,000 will be given to the five top teams that participate in Demo Day. Winners will be selected based on the degree to which their minimum viable product addresses a time-sensitive market problem in the solar industry. Those teams will be eligible for a second tranche progress round of $70,000 as a follow-on cash award based on the Team's success in meeting its targets and goals as identified in its 6-month growth plan. Demo Date: January 19-February 09, 2015. Seed Round 1st Tranche Cash Awards Announcement Date: Monday February 09, 2015. 6-month Assessment Period Ends: Monday August 10, 2015 at 11:59 p.m. ET. Progress Round Awards and 2nd Tranche Cash Prizes Announcement Date: September 10-20, 2015.

All dates are subject to change. For more details please visit catalyst.energy.gov.

Dated: May 20, 2014.
Steven G. Chalk,
Deputy Assistant Secretary.

[FR Doc. 2014-12290 Filed 5-27-14; 8:45 am]

BILLING CODE 6450-01-P